DEPARTMENT OF COMMERCE

International Trade Administration

Environmental Technologies Trade Mission

AGENCY: International Trade Administration, Department of Commerce.

ACTION: Notice to announce environmental technologies trade mission to China and Hong Kong, October 26-November 2, 2004.

SUMMARY: The United States Department of Commerce, International Trade Administration, U.S. Commercial Service is organizing an Environmental Technologies Trade Mission to Hong Kong and Beijing and Shanghai, China on October 26-November 2, 2004. This event offers a timely opportunity for U.S. firms to tap into some of the world's fastest growing markets for U.S. environmental equipment and technology.

CONTACT: Office of Business Liaison; Room 5062; Department of Commerce; Washington, DC 20230; Tel: (202) 482-1360; Fax: (202) 482-4054.

SUPPLEMENTARY INFORMATION: Environmental Technologies Trade Mission Hong Kong and Beijing and Shanghai, China October 26-November 2, 2004.

Mission Statement

I. Description of the Mission

The United States Department of Commerce, International Trade Administration, U.S. Commercial Service is organizing an Environmental Technologies Trade Mission to Hong Kong and Beijing and Shanghai, China on October 26-November 2, 2004. This event offers a timely opportunity for U.S. firms to tap into some of the world's fastest growing markets for U.S. environmental equipment and technology. Target subsectors with best prospects for U.S exporters to China and Hong Kong include solid waste (medical and hazardous) treatment, wastewater (municipal and industrial) treatment, and air pollution control equipment. Mission participants will benefit from country briefings; one-to-one appointments with prospective business contacts; high-level meetings with government officials; and site visits. In addition, the mission is strategically timed to facilitate attendance at Pollutec China 2004, November 3-5, 2004, in Shanghai. Offered this year for the first time in China, Pollutec will build on its 20-year success in France, where more than 2,200 exhibitors from 32 countries and 63,000 trade visitors do business annually. Pollutec China 2004 is a U.S. Department of Commerce Certified Trade Fair.

II. Commercial Setting for the Mission

China is expected to spend $84 billion (1.2% of GDP) on environmental protection to meet the goals of the 10th five-year plan (2001-2005). During this 5-year period, the central government is expected to make 11.4% ($9.7 billion) of the investment, while 34% will come from provincial and local governments and the remaining 55% from business enterprises. Beijing alone is projected to spend at least $5.4 billion on environmental clean-up in preparation for the 2008 Olympics.

China and its foreign lenders still spend far more on the water sector than on air and solid waste, especially on the clean-up of priority river basins and lakes, thus offering the best opportunities for U.S. exporters. In November 2000, the State Council issued a notice requiring all cities with populations over 100,000 to build wastewater treatment facilities by 2005. To meet funding demands, water tariffs have been on the rise in most major cities in the last few years, and cities are starting to levy increased wastewater surcharges. Among the water pollution issues, groundwater contamination is a serious problem. Industrial factories are top groundwater polluters. Local environmental protection bureaus are responsible for inspection and investigation of groundwater pollution emergencies, and urge polluters to complement clean-up of the pollution. Best water and wastewater export opportunities to China include those related to river basin management and flood control, water reuse, and sludge treatment and disposal. Specific products in strong demand include water monitoring instruments, drinking water purification products, and industrial wastewater treatment equipment.

Solid waste treatment, predominately through incineration and landfill, is expanding as China is slowly beginning to enforce its comprehensive solid and hazardous waste law. At present, China plans to allocate $1.8 billion for the implementation of this plan, which includes construction of 31 hazardous waste treatment centers and 300 centralized medical waste treatment facilities; reconstruction, expansion and establishment of 31 warehouses for radioactive waste at the provincial level; and the establishment of 31 hazardous waste registration centers at the provincial level. The State Environmental Protection Administration is now in the process of identifying advanced hazardous waste treatment technologies suitable for China's situation. U.S. companies offering hazardous waste solutions hold strong potential in the China market.

In the air pollution control subsector, current focuses in China include SO2 and acid rain control, as well as curbing vehicle emissions. The most recent regulatory requirements mandate that China observe an emissions standard equivalent to Europe II by the end of 2004. It is also reported that China is going to further raise the emissions standard to Europe III equivalent around the year 2008. In addition, China requires that all coal-fired power plants install desulfurization equipment by the year 2010. Air pollution control products that enjoy the best sales prospects in China include low-cost flue gas desulfurization and de-NOX systems, air monitoring instruments, and vehicle emissions control and inspection devices.

The Hong Kong Government has made water pollution control and solid waste treatment top priorities. While Hong Kong is a service-oriented economy and its industrial pollution is insignificant, cross-border pollution remains a big concern. For water and solid waste, the Hong Kong Government is formulating plans to resolve the problems internally. In 2002, total government expenditure devoted to environmental protection work amounted to approximately US$825 million, including US$190 million for sewage services (planning, design and construction of sewage systems, and sewage treatment and disposal facilities); US$580 million for drainage and water works, improvement of air quality, prevention of noise problems, and solid waste treatment; and $55 million for environmental assessment and planning. The Hong Kong Government has earmarked some US$775 million annually for environmental infrastructure improvement during the past two years.

Best prospects for U.S. environmental exports to Hong Kong include analytical instruments, vehicle emission particulate reduction devices, water filtration equipment (such as biological filtration), disinfection technologies (UV, membrane and ozonation), analytical instruments, mechanical waste sorting and separation, composting, incineration, and waste-to-energy technologies.

III. Goals for the Mission

The goal of the China/Hong Kong Trade Mission is to enable trade mission participants to gain first-hand market exposure to government decision makers and private sector potential agents, distributors and business partners so they can be positioned to take advantage of the strong environmental business opportunities in China and Hong Kong.

IV. Scenario for the Mission

The Environmental Trade Mission will include three stops: Hong Kong, Beijing and Shanghai. In each city, trade mission participants will benefit from country briefings and one-on-one business meetings with prospective agents, distributors, partners, and end users. In Shanghai and Beijing companies will also hold high-level meetings with government officials regarding regulatory and project opportunities, as well as visit environmental projects holding business potential. After the close of the trade mission, from November 3-5, mission participants can opt to remain in Shanghai to visit or exhibit on their own at Pollutec China 2004. As an added bonus to trade mission companies, their product literature will be displayed in the USA Pavilion at Pollutec.

Timetable

Timetable for the trade mission will be as follows:

Hong Kong:

Tuesday, Oct. 26—Late Afternoon Briefing.

Wednesday, Oct. 27—One-on-one meetings; Early evening travel to Beijing.

Beijing:

Thursday, Oct. 28—Briefing; Meetings with Federal and State government regulatory and project administration agencies; Site visit.

Friday, Oct. 29—One-on-one meetings.

Shanghai:

Monday, Nov. 1—Briefing; Shanghai Government meetings; Site visit.

Tuesday, Nov. 2—One-on-one meetings; Conclusion.

Wed/Thurs, Nov. 3-5—Optional participation in Pollutec China 04.

V. Criteria for Participant Selection

• Relevance of a company's business line to mission goals.

• Timeliness of company's signed application and participation agreement (including a participation fee of $3,400).

• Potential for business in China and Hong Kong for the company.

• Minimum of eight and maximum of twelve participating companies in the mission.

• Provision of adequate information on company's products and/or services, and company's primary market objectives, in order to facilitate appropriate matching with potential business partners.

• Certification that the company meets Departmental guidelines for participation. A company's products or services must be either produced in the United States, or, if not, marketed under the name of a U.S. firm and have at least 51 percent U.S. content of the value of the finished product or service.

Any partisan political activities (including political contributions) of an applicant are entirely irrelevant to the selection process.

Mission recruitment will be conducted in an open and public manner, including publication in the Federal Register, posting on the Commerce Department trade mission calendar— http://www.ita.doc.gov/doctm/tmcal.html—and other Internet Web sites, press releases to the general and trade media, direct mail and broadcast fax, notices by industry trade associations and other multiplier groups, and at industry meetings, symposia, conferences, trade shows.

Recruitment for the mission will begin in June 2004 and conclude no later than September 15, 2004. The mission will target 8-12 companies. The participation fee for the event will be $3,400 per company. The participation fee does not include travel and lodging costs. Applications received after the closing date will be considered only if space and scheduling constraints permit.

U.S. Contact Information

Julia Rauner Guerrero, Environmental Technologies Team, San Diego U.S. Export Assistance Center, Phone: (619) 557-2963, E-mail: julia.rauner.guerrero@mail.doc.gov.

Yvonne Jackson, Export Promotion Services, Washington, DC, Phone: (202) 482-2675, E-mail: yvonne.jackson@mail.doc.gov.

Sue Simon, Trade Development, Washington, DC, Phone: 202-482-0713, E-mail: susan_simon@ita.doc.gov.

Dated: June 24, 2004.
John Klingelhut,
Senior Advisor, Export Promotion Services.

[FR Doc. 04-15225 Filed 7-2-04; 8:45 am]

BILLING CODE 3510-DR-P